DEPARTMENT OF HEALTH AND HUMAN SERVICES

Centers for Disease Control and Prevention

Fetal Alcohol Syndrome Regional Training Centers

Announcement Type: New.

Funding Opportunity Number: 05036.

Catalog of Federal Domestic Assistance Number: 93.283.

Key Dates: Application Deadline: August 15, 2005.

I. Funding Opportunity Description

Authority: This program is authorized under sections 317(k)(2) of the Public Health Service Act, (42 U.S.C. Section 247b(k)(2)), as amended.

Background: As part of the fiscal year 2002 appropriations funding legislation, the U.S. Congress mandated that the Centers for Disease Control and Prevention (CDC), acting through the National Center on Birth Defects and Developmental Disabilities (NCBDDD) Fetal Alcohol Syndrome (FAS) Prevention Team and in coordination with the National Task Force on Fetal Alcohol Syndrome and Fetal Alcohol Effect (NTFFAS/FAE), other federally funded FAS programs, and appropriate nongovernmental organizations (NGOs), would (1) develop guidelines for the diagnosis of FAS and other negative birth outcomes resulting from prenatal exposure to alcohol; (2) incorporate these guidelines into curricula for medical and allied health students and practitioners, and seek to have them fully recognized by professional organizations and accrediting boards; and (3) disseminate curricula to and provide training for medical and allied health students and practitioners regarding these guidelines. As part of CDC's response to this mandate, four FAS Regional Training Centers (RTCs) were established to disseminate state-of-the-art information regarding FAS and training medical and allied health professionals to use the new guidelines for FAS diagnosis that were to be developed. From 2002 to 2005, the FAS RTCs have developed and pilot-tested educational and training experiences and materials. The RTCs are working with professional organizations and accrediting boards to ensure that the FAS Guidelines for Referral and Diagnosis and other FAS competencies are incorporated into professional credentialing examinations.

Purpose: The purpose of the program is to implement, evaluate, and enhance the existing Fetal Alcohol Syndrome (FAS) Regional Training Centers (RTCs). This program addresses the “Healthy People 2010” focus area of Substance Abuse and Maternal, Infant, and Child Health.

Measurable outcomes of the program will be in alignment with one (or more) of the following performance goal(s) for NCBDDD that include establishing new, or enhancing, prevention programs that reduce the prevalence of FAS, reduce prenatal exposure to alcohol, and improve and/or link children who currently have FAS to health services.

This announcement is only for non-research activities supported by CDC/ATSDR. If research is proposed, the application will not be reviewed. For the definition of research, please see the CDC web site at the following Internet address: http://www.cdc.gov/od/ads/opspoll1.htm.

Awardee Activities: All RTCs are providing training and education for medical and allied health students and providers. Although the RTCs share common activities, there are some differences among the RTCs with respect to their particular focus. For example, one RTC may focus on developing and delivering education to medical students while another RTC may concentrate primarily on providing training to community health practitioners. In the application, each applicant should explain the unique aspects, accomplishments, and future plans for their RTC. The applicant should describe their strengths in terms of these four categories:

A. Methods for increasing knowledge, attitudes and skills of medical and allied health students and practitioners.

B. Training and education materials development

C. Training and education delivery, including recruitment of participants

D. Evaluation

Awardee activities are as follows:

A. Methods for increasing knowledge, attitudes and skills of medical and allied health students and practitioners.

• Increase the workforce capacity for prevention, identification, and intervention of FAS through education and training activities.

• Increase the proportion of medical and allied health students who achieve core competencies through appropriate education about FAS.

• Provide technical assistance to others developing and providing FAS education and training. This technical assistance may be provided via telephone, e-mail, written consultation, or on-site.

• Develop or enhance relationships with targeted state and local public health/social service agencies, non-governmental agencies, private providers, and other partners to expand the capacities for professional and student education and training in FAS.

• Expand the numbers of medical and allied health professional training programs that use the RTC FAS competency-based curriculum.

• Expand the number of states with FAS related content on their credentialing board exams.

• Develop and maintain a Web site containing, at a minimum, a list of courses and materials offered by the RTC, along with ordering materials. Electronic versions of products should be posted on this Web site. Materials developed and distributed by the RTCs must be in the public domain and cannot be copyrighted. CDC reserves the right to make additional changes to materials or products produced by the RTCs for regional or national distribution. We encourage proposals that use information technology in a creative, cost-effective way to train and educate health care students and professionals. This might include plans for the design, development, and evaluation of online training courses, modules, seminars, and/or netmeetings.

• Develop a sustainability plan for the continuation of the RTC after the cooperative agreement period is completed.

B. Training and Education Materials Development:

• Develop scientifically current, innovative, high-quality, culturally appropriate programs and materials for FAS training and education based on evaluation findings from the initial cooperative agreement and from ongoing needs assessment. Submit proposals to CDC for development of materials that can be used regionally and nationally, including taking into account different cultural and linguistic populations.

• Incorporate training in health literacy and communication skills so that providers can be better prepared to provide information, counseling, referral, etc.

• Develop methods to ensure that materials and resources for FAS education and training are easily accessible.

• Develop a plan for developing and evaluating marketing and dissemination strategies.

C. Training and Education Delivery:

• Increase opportunities for regular and ongoing FAS prevention, identification, intervention training and education to persons within the RTC region.

• Develop a training plan that integrates the FAS Curriculum Framework and Instructional Resources Handbook for Medical and Allied Health Education and Practice developed by the FAS RTCs, CDC, and the National Organization on FAS (NOFAS). The plan must be based on learner needs and indicate how the applicant will provide a minimum of 200 hours of education and/or training for medical and allied health students and practitioners.

• Integrate additional curricula on birth defects/developmental disabilities as opportunity and need arises. (Optional)

• Provide continuing education credits for participants, when possible and appropriate.

D. Evaluation:

• Develop and implement a comprehensive evaluation plan that assesses changes in learner knowledge, attitudes, and practice behaviors among recipients of the training and education provided. The plan should also address the degree to which trained providers increase their interactions with other relevant service delivery agencies and providers in the community (for example, increased referrals to alcohol and drug centers and FAS diagnostic clinics).

• Develop a plan to use evaluation information to provide continuous quality improvement of training/education activities and materials.

• Develop a tracking system that documents the number of hours of training/education provided, the number of trainees/students, the type of trainees/students (nurses, physicians, psychologists, etc.), the average cost of person trained, and the competencies addressed by individual training courses.

In a cooperative agreement, CDC staff is substantially involved in the program activities, above and beyond routine grant monitoring.

CDC Activities for this program are as follows:

• Assist recipients in monitoring program evaluation/performance, setting and meeting objectives, implementing methods, and complying with cooperative agreement requirements and other funding issues, through various methods including telephone consultation, site visits, and site visit reports.

• Provide technical assistance in assessing and prioritizing training and education needs and in planning, implementing, and evaluating training and education activities.

• Provide technical assistance in developing and evaluating innovative curriculum approaches, instructional strategies, and materials tailored to meet the FAS curriculum competencies. This will be accomplished through review, comment, and facilitation of communications with other CDC grantees on this project.

• Provide technical assistance in developing and evaluating marketing and dissemination strategies.

II. Award Information

Type of Award: Cooperative Agreement. CDC involvement in this program is listed in the Activities Section above.

Fiscal Year Funds: 2005.

Approximate Total Funding: $1,000,000 (This amount is an estimate, and is subject to availability of funds.).

Approximate Number of Awards: Four.

Approximate Average Award: $250,000 (This amount is for the first 12-month budget period, and includes both direct and indirect costs).

Floor of Award Range: $150,000.

Ceiling of Award Range: $300,000 (This ceiling is for the first 12-month budget period.).

Anticipated Award Date: August 30, 2005.

Budget Period Length: 12 months.

Project Period Length: Three years. Throughout the project period, CDC's commitment to continuation of awards will be conditioned on the availability of funds, evidence of satisfactory progress by the recipient (as documented in required reports), and the determination that continued funding is in the best interest of the Federal Government.

III. Eligibility Information

III.1. Eligible Applicants

Eligible applicants are limited to those previously funded under Program Announcement No. 00064: Meharry Medical College in collaboration with Morehouse School of Medicine, St. Louis University School of Medicine, University of California at Los Angeles School of Medicine, and University of Medicine and Dentistry of New Jersey. This limited eligibility is based on sustaining support to established projects, and to take advantage of the foundation and training and educational delivery systems developed and now in place to educate and train medical and allied health students and practitioners regarding FAS. These grantees have developed educational and training materials and have conducted a variety of educational events for medical and allied health students and professionals in all regions. These four university-based grantees are uniquely qualified to implement, evaluate and enhance the existing RTCs because they have: Already developed FAS competencies for medical and allied health students and professionals; developed educational curricula and are developing training materials based on the FAS competencies; extensive experience in the field of FAS and the education of medical and allied health students and practitioners regarding FAS; access to the target audiences for the cooperative agreement; previously established institutional support for work in this area; already developed relationships throughout their respective regions necessary to continue this work; and demonstrated overall success in working collaboratively with CDC over the last three years in the initial cooperative agreement. The new cooperative agreement will be a continuation of the work conducted by the existing RTCs (2002-2005) and thus the four current grantees are uniquely qualified to carry on this work.

III.2. Cost Sharing or Matching

Matching funds are not required for this program.

III.3. Other

If a funding amount greater than the ceiling of the award range is requested, the application will be considered non-responsive and will not be entered into the review process. The applicant will be notified that the application did not meet the submission requirements.

Special Requirements: If the application is incomplete or non-responsive to the special requirements listed in this section, it will not be entered into the review process. The applicant will be notified the application did not meet submission requirements.

• Late applications will be considered non-responsive. See section “IV.3. Submission Dates and Times” for more information on deadlines.

• Note: Title 2 of the United States Code Section 1611 states that an organization described in Section 501(c)(4) of the Internal Revenue Code that engages in lobbying activities is not eligible to receive Federal funds constituting an award, grant, or loan.

IV. Application and Submission Information

IV.1. Address to Request Application Package

To apply for this funding opportunity use application form PHS 5161-1.

Electronic Submission: CDC strongly encourages the applicant to submit the application electronically by utilizing the forms and instructions posted for this announcement on www.Grants.gov, the official Federal agency wide E-grant Web site. Only applicants who apply on-line are permitted to forego paper copy submission of all application forms.

Paper Submission: Application forms and instructions are available on the CDC Web site, at the following Internet address: http://www.cdc.gov/od/pgo/forminfo.htm.

If access to the Internet is not available, or if there is difficulty accessing the forms on-line, contact the CDC Procurement and Grants Office Technical Information Management Section (PGO-TIM) staff at 770-488-2700 and the application forms can be mailed.

IV.2. Content and Form of Submission

Application: A project narrative must be submitted with the application forms. The narrative must be submitted in the following format:

• Maximum number of pages: 25. If your narrative exceeds the page limit, only the first pages which are within the page limit will be reviewed.

• Font size: 12 point unreduced

• Double spaced

• Paper size: 8.5 by 11 inches

• Page margin size: One inch

• Printed only on one side of page

• Held together only by rubber bands or metal clips; not bound in any other way.

The narrative should address activities to be conducted over the entire project period, and must include the following items in the order listed:

• A demonstrated understanding of the problem of FAS and other prenatal alcohol-related conditions and the justification of the need for the continuation of the FAS Regional Training Centers.

• A description of the goals and specific objectives of the project in time-framed, measurable terms (e.g., number of trainings to be held, number of participants to be trained, number of schools to incorporate the curriculum).

• A time-phased detailed plan describing the approach to be taken in implementing the project and the methods by which the objectives will be achieved and evaluated, including their sequence.

• A description of the specific products to be developed and/or disseminated through the project.

• A comprehensive evaluation plan must be outlined.

• A description of the applicant's capacity (organizational capacity, staffing, facilities, equipment, and project timeline) to conduct the project in a timely fashion.

• A description of the cooperative agreement's principal investigator's role and responsibilities.

• A description of all the project staff, regardless of their funding source. It should include their title, qualifications, experience, percentage of time each will devote to the project, as well as that portion of their salary to be paid by the cooperative agreement.

• A detailed first year's budget for the cooperative agreement with future annual projections. Awards will be made for a project period of up to three years. (Budget justification is not included in narrative page limit).

Additional information may be included in the application appendices. The appendices will not be counted toward the narrative page limit. This additional information includes:

• Curriculum Vitas

• Letters of Support

The agency or organization is required to have a Dun and Bradstreet Data Universal Numbering System (DUNS) number to apply for a grant or cooperative agreement from the Federal government. The DUNS number is a nine-digit identification number, which uniquely identifies business entities. Obtaining a DUNS number is easy and there is no charge. To obtain a DUNS number, access www.dunandbradstreet.com or call 1-866-705-5711.

For more information, see the CDC Web site at: http://www.cdc.gov/od/pgo/funding/grantmain.htm.

If the application form does not have a DUNS number field, please write the DUNS number at the top of the first page of the application, and/or include the DUNS number in the application cover letter.

Additional requirements that may require submittal of additional documentation with the application are listed in section “VI.2. Administrative and National Policy Requirements.”

IV.3. Submission Dates and Times

Application Deadline Date: August 15, 2005.

Explanation of Deadlines: Applications must be received in the CDC Procurement and Grants Office by 4 p.m. Eastern Time on the deadline date.

Applications may be submitted electronically at www.grants.gov. Applications completed on-line through Grants.gov are considered formally submitted when the applicant organization's Authorizing Official electronically submits the application to www.grants.gov. Electronic applications will be considered as having met the deadline if the application has been submitted electronically by the applicant organization's Authorizing Official to Grants.gov on or before the deadline date and time.

If submittal of the application is done electronically through Grants.gov (http://www.grants.gov), the application will be electronically time/date stamped, which will serve as receipt of submission. Applicants will receive an e-mail notice of receipt when CDC receives the application.

If submittal of the application is by the United States Postal Service or commercial delivery service, the applicant must ensure that the carrier will be able to guarantee delivery by the closing date and time. If CDC receives the submission after the closing date due to: (1) Carrier error, when the carrier accepted the package with a guarantee for delivery by the closing date and time, or (2) significant weather delays or natural disasters, the applicant will be given the opportunity to submit documentation of the carrier's guarantee. If the documentation verifies a carrier problem, CDC will consider the submission as having been received by the deadline.

If a hard copy application is submitted, CDC will not notify the applicant upon receipt of the submission. If questions arise on the receipt of the application, the applicant should first contact the carrier. If the applicant still has questions, contact the PGO-TIM staff at (770) 488-2700. The applicant should wait two to three days after the submission deadline before calling. This will allow time for submissions to be processed and logged.

This announcement is the definitive guide on application content, submission address, and deadline. It supersedes information provided in the application instructions. If the submission does not meet the deadline above, it will not be eligible for review, and will be discarded. The applicant will be notified the application did not meet the submission requirements.

IV.4. Intergovernmental Review of Applications

Executive Order 12372 does not apply to this program.

IV.5. Funding Restrictions

Restrictions, which must be taken into account while writing your budget, are as follows:

• Funds may not be used for research.

• Reimbursement of pre-award costs is not allowed.

If requesting indirect costs in the budget, a copy of the indirect cost rate agreement is required. If the indirect cost rate is a provisional rate, the agreement should be less than 12 months of age.

Guidance for completing the budget can be found on the CDC Web site, at the following Internet address: http://www.cdc.gov/od/pgo/funding/budgetguide.htm

IV.6. Other Submission Requirements

Application Submission Address: Electronic Submission: CDC strongly encourages applicants to submit applications electronically at www.Grants.gov. The application package can be downloaded from www.Grants.gov. Applicants are able to complete it off-line, and then upload and submit the application via the Grants.gov Web site. E-mail submissions will not be accepted. If the applicant has technical difficulties in Grants.gov, costumer service can be reached by E-mail at http://www.grants.gov/CustomerSupport or by phone at 1-800-518-4726 (1-800-518-GRANTS). The Customer Support Center is open from 7 a.m. to 9 p.m. Eastern Time, Monday through Friday.

CDC recommends that submittal of the application to Grants.gov should be early to resolve any unanticipated difficulties prior to the deadline. Applicants may also submit a back-up paper submission of the application. Any such paper submission must be received in accordance with the requirements for timely submission detailed in Section IV.3. of the grant announcement. The paper submission must be clearly marked: “BACK-UP FOR ELECTRONIC SUBMISSION.” The paper submission must conform to all requirements for non-electronic submissions. If both electronic and back-up paper submissions are received by the deadline, the electronic version will be considered the official submission.

It is strongly recommended that the applicant submit the grant application using Microsoft Office products (e.g., Microsoft Word, Microsoft Excel, etc.). If the applicant does not have access to Microsoft Office products, a PDF file may be submitted. Directions for creating PDF files can be found on the Grants.gov Web site. Use of file formats other than Microsoft Office or PDF may result in the file being unreadable by staff.

or

Paper Submission:

Applicants should submit the original and two hard copies of the application by mail or express delivery service to: Technical Information Management-05036, CDC Procurement and Grants Office, 2920 Brandywine Road, Atlanta, GA 30341.

V. Application Review Information

V.1. Criteria

Applicants are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

The application will be evaluated against the following criteria:

1. Technical Approach and Methods: Training, Educational/Training Product Development (30%).

The extent to which the applicant provides a full, comprehensive, and time-phased description of the project they propose to undertake. The plan should include: (1) A plan for how the work will be accomplished along with a timeline of activities; (2) the process for trainee recruitment; (3) a plan for acquiring continuing education credits appropriate for trainees; (4) a plan to produce, evaluate, market, and disseminate products; (5) proposed training plan based on learner needs; (6) a plan that describes the activities that will be undertaken to expand the number of states with FAS related content on their credentialing board exams, (7) a description of how the RTC will expand the number of medical and allied health and allied health professional training programs that use the RTC FAS competency-based curriculum; (8) a description of a speaker's bureau for their region; and (9) a description of plan to provide technical assistance within the RTC region.

2. Introduction and Program Description (20%).

The extent to which the applicant demonstrates: (1) An understanding of the problem of FAS and other prenatal alcohol-related conditions and the importance of educating medical and allied health students and practitioners about these conditions; (2) a history of educational and training experience in FAS, provision of technical assistance in training and education, and experience in FAS training and education product development; and (3) position descriptions for proposed RTC staff, including credentials and appropriate experience, particularly in the area of FAS.

3. Goals and Objectives (20%).

The extent to which: (1) The project goals are clearly stated and the objectives are specific, measurable, and time-phased; and (2) the extent to which a plan is presented for evaluating the objectives.

4. Evaluation Plan (20%).

The extent to which the applicant provides: (1) A comprehensive plan to assess changes in learner knowledge, attitudes, and practice behaviors among recipients of the training and education provided. The plan should also include changes in patterns of referral by providers to other appropriate facilities and agencies (for example, increased referrals to alcohol and drug centers and FAS diagnostic clinics); (2) a plan for using evaluation information to provide continuous quality improvement of training/education activities and materials; (3) a plan to develop a tracking system that documents the number of hours of training/education provided, the number of trainees/students, the type of trainees/students (nurses, physicians, psychologists, etc.), the average cost of person trained, and the competencies addressed by the training.

5. Capacity to Conduct Project Activities in a Timely Fashion (10%).

The extent to which the applicant has provided information to support its ability to: (1) Conduct the activities of the cooperative agreement, including documentation of previous relevant experience, documentation of institutional support for the project, documentation of adequate management structure and organizational capacity; (2) identify qualified personnel to fill key positions and begin project activities in a timely fashion; and (3) identify adequate office space for the project as well as facilities and equipment for conducting training and educational educational sessions. The applicant provides an appropriate timeline of the project. A description of the applicant's capacity (organizational capacity, staffing, facilities, equipment, and project timeline) to conduct the project in a timely fashion.

6. Budget Justification (not scored).

The budget will be evaluated for the extent to which it is reasonable, clearly justified, and consistent with the intended use of the cooperative agreement funds.

V.2. Review and Selection Process

Applications will be reviewed for completeness by the Procurement and Grants Office (PGO) staff, and for responsiveness by the NCBDDD. Incomplete applications and applications that are non-responsive to the eligibility criteria will not advance through the review process. Applicants will be notified that their application did not meet submission requirements.

An objective review panel will evaluate complete and responsive applications according to the criteria listed in the “V.1. Criteria” section above. The objective review panel will consist of CDC employees outside of the funding division who will be randomly assigned applications to review and score. Applications will be funded in order by score and rank determined by the review panel. CDC will provide justification for any decision to fund out of rank order.

V.3. Anticipated Announcement and Award Dates

August 1, 2005 for an August 30, 2005 award date.

VI. Award Administration Information

VI.1. Award Notices

Successful applicants will receive a Notice of Award (NoA) from the CDC Procurement and Grants Office. The NoA shall be the only binding, authorizing document between the recipient and CDC. The NoA will be signed by an authorized Grants Management Officer, and mailed to the recipient fiscal officer identified in the application.

Unsuccessful applicants will receive notification of the results of the application review by mail.

VI.2. Administrative and National Policy Requirements

Successful applicants must comply with the administrative requirements outlined in 45 CFR Part 74 and Part 92 as Appropriate. The following additional requirements apply to this project:

• AR-9 Paperwork Reduction Act Requirements.

• AR-10 Smoke-Free Workplace Requirements.

• AR-11 Healthy People 2010.

• AR-12 Lobbying Restrictions.

Additional information on these requirements can be found on the CDC web site at the following Internet address: http://www.cdc.gov/od/pgo/funding/ARs.htm.

For more information on the Code of Federal Regulations, see the National Archives and Records Administration at the following Internet address: http://www.access.gpo.gov/nara/cfr/cfr-table-search.html

An additional Certifications form from the PHS5161-1 application needs to be included in the Grants.gov electronic submission only. Applicants should refer to http://www.cdc.gov/od/pgo/funding/PHS5161-1-Certificates.pdf. Once the applicant has filled out the form, it should be attached to the Grants.gov submission as Other Attachments Form.

VI.3. Reporting Requirements

The applicant must provide CDC with an original, plus two hard copies of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness.

f. Additional Requested Information.

2. Financial status report, no more than 90 days after the end of the budget period.

3. Final financial and performance reports, no more than 90 days after the end of the project period.

These reports must be mailed to the Grants Management or Contract Specialist listed in the “Agency Contacts” section of this announcement.

VII. Agency Contacts

We encourage inquiries concerning this announcement.

For general questions, contact:

Technical Information Management Section, CDC Procurement and Grants Office, 2920 Brandywine Road, Atlanta, GA 30341. Telephone: 770-488-2700.

For program technical assistance, contact: Kendall Anderson, Project Officer, Division of Birth Defects and Developmental Disabilities, National Center on Birth Defects and Developmental Disabilities (NCBDDD), Centers for Disease Control and Prevention, 1600 Clifton Road, NE (Mailstop E-86), Atlanta, Georgia 30333. Telephone: (404) 498-3950. E-mail: kra0@cdc.gov.

For financial, grants management, or budget assistance, contact: Nealean Austin, Grants Management Officer, CDC Procurement and Grants Office, 2920 Brandywine Road, Atlanta, GA 30341. Telephone: (770) 488-2722. E-mail: nea1@cdc.gov.

VIII. Other Information

This and other CDC funding opportunity announcements can be found on the CDC web site, Internet address: http://www.cdc.gov. Click on “Funding” then “Grants and Cooperative Agreements.”

Dated: July 8, 2005.
William P. Nichols,
Director, Procurement and Grants Office, Centers for Disease Control and Prevention.

[FR Doc. 05-13934 Filed 7-14-05; 8:45 am]

BILLING CODE 4163-18-U